NUCLEAR REGULATORY COMMISSION

[Docket No. 50-255]

Nuclear Management Company, LLC; Notice of Withdrawal of Application for Amendment to Facility Operating License

The U.S. Nuclear Regulatory Commission (the Commission) has granted the request of Nuclear Management Company, LLC (NMC) to withdraw its application of April 1, as supplemented May 26, August 25, and November 22, 2005, for proposed amendment to Facility Operating License No. DPR-20 for the Palisades Nuclear Plant located in VanBuren County, Michigan.

The proposed amendment would have changed Technical Specification (TS) 3.7.8, “Service Water System,” to provide a one-time extension to the Completion Time for restoring a service water train to operable status.

The Commission had previously issued a Notice of Consideration of Issuance of Amendment published in the Federal Register on May 10, 2005 (70 FR 24654). However, NMC's letter of January 5, 2006, withdrew the proposed change.

For further details with respect to this action, see the application for amendment dated April 1, as supplemented May 26, August 25, and November 22, 2005, and NMC's letter of January 5, 2006, which withdrew the application for license amendment. Documents may be examined, and/or copied for a fee, at the NRC's Public Document Room (PDR), located at One White Flint North, Public File Area 01 F21, 11555 Rockville Pike (first floor), Rockville, Maryland. Publicly available records will be accessible electronically from the Agencywide Documents Access and Management Systems (ADAMS) Public Electronic Reading Room on the internet at the NRC Web site, http://www.nrc.gov/reading-rm/adams/html. Persons who do not have access to ADAMS or who encounter problems in accessing the documents located in ADAMS, should contact the NRC PDR Reference staff by telephone at 1-800-397-4209, or 301-415-4737 or by email to pdr@nrc.gov.

Dated at Rockville, Maryland, this 17th day of January 2006.
For the Nuclear Regulatory Commission.
L. Mark Padovan,
Project Manager, Plant Licensing Branch III-1, Division of Operating Reactor Licensing, Office of Nuclear Reactor Regulation.

[FR Doc. E6-886 Filed 1-24-06; 8:45 am]

BILLING CODE 7590-01-P